DEPARTMENT OF COMMERCE

International Trade Administration

Smart Cities Infrastructure Business Development Mission to India; February 8-12, 2016

AGENCY: International Trade Administration, Department of Commerce.

ACTION: Notice.

SUMMARY: The United States Department of Commerce, International Trade Administration (ITA) is organizing an Executive-led Smart Cities Infrastructure Business Development Mission to India (New Delhi, Mumbai and Chennai, with an optional spin off site visit to Vizag) from February 8-12, 2016.

Today, India's cities account for approximately 60% of the country's Gross Domestic Product (GDP). By 2030, that share is expected to reach 75% and the urban labor force is expected to increase by nearly 200 million workers. The new Indian Government led by Prime Minister Modi assumed office in June 2014 with an overwhelming mandate to focus on economic development. To capture the popular imagination and motivate the people of India, the new government has proposed a dramatic nationwide program to build 100 smart cities. In practice this will mean a wide variety of major infrastructure projects across the country that will be funded by the central and state governments over the next few years along with private sector capital. Infrastructure needs in India are estimated to be in the $1.5-$2 trillion range. The recently launched initiative will move to define and implement reforms that drive the growth of smart cities. At this stage, the government has highlighted resource management, 24 hour water and power supply, world class transportation systems, state of the art education systems, advanced e-government, and environmental sustainability as pillars of India's smart cities. This initiative offers excellent opportunities for U.S. companies to participate in these projects in selected areas and sectors.

In recognition of cutting-edge U.S. technologies, products and services, the Government of India is encouraging the U.S. Government (USG) and U.S. companies to take the lead in developing smart city projects in three major urban areas: Ajmer in the state of Rajasthan, Allahabad in the state of Uttar Pradesh, Vishakhapatnam (aka Vizag) in the state of Andhra Pradesh. With the support of the U.S. Trade and Development Agency, U.S. companies will be involved in planning and technical assistance for each of these cities. However, U.S. participation is not limited to these three cities. CS India, in partnership with the American Chamber of Commerce and other local commercial chambers, has been staging events throughout the country in cities with additional public and private smart city projects.

Schedule
Day of week | Date | Activity
Sunday | Feb. 7 | Participants arrive in Delhi.
Monday | Feb. 8 | Country briefing by U.S. Embassy staff on programs and opportunities in the infrastructure sector. B-2-B Business Meetings for delegates in New Delhi. Evening Reception.
Tuesday | Feb. 9 | Government meetings. Depart for Mumbai afternoon. Briefing on Western India. Evening Reception.
Wednesday | Feb. 10 | B-2-B Business Meetings for delegates in Mumbai. Evening Travel to Chennai.
Thursday | Feb. 11 | Briefing on Southern India B-2-B Business Meetings for delegates in Chennai. Evening Reception.
Friday | Feb. 12 | Optional smart city site visit to Vizag.* Return to the United States on own itinerary.
* Vizag (aka Vishakhapatnam) has made the most progress in terms of planning for physical infrastructure upgrades and implementation of smart city technologies. Additionally, the US Trade and Development Agency recently awarded a master planning contract to a consortium of US companies to facilitate smart city implementation in Vizag. A spin off visit to Vizag will provide an opportunity for mission participants to visit an up and coming smart city in India and to market their technologies directly to decision makers in Vizag as well as to the US consortium that has the master planning contract.

Target Sectors
IT infrastructure | Water
IT architecture, security solutions, and other Internet of Things applications. | Engineering, procurement, and construction services.
Smart Grid applications, including Demand Management and Demand Response, Distribution Automation, and Distributed Energy Resource Management. Building Energy Management Systems, LED Lighting, Smart Street Lighting and other energy efficient lighting systems and control technology. | Operations services. Advanced Filtration. Membrane filtration. Sewage treatment technology. Waste to energy technology.
Energy efficient technologies and applications in transportation. | Anaerobic digestion.
Services for city planning, including Environmental Sustainability Plans, GIS mapping, and financial services. | Nitrification. Biological denitrification. Monitoring equipment.
| Testing equipment.

Web site: Please visit our official mission Web site for more information: http://www.export.gov/trademissions/smartcitiesindia2016/index.asp

Fees:

$4,000 for SME firms.

$4,500 for large firms.

Additional participants: $1,000 per person.

Additional fees for optional trip to Vizag:

SME firms that will be attending the optional Vizag trip will pay $4,100, Large firms that attend will pay $4,800.

Application: All interested firms and associations may register via the following link, https://emenuapps.ita.doc.gov/ePublic/TM/6R0Q.

Application Deadline: November 10, 2015.

Exclusions

The mission fee does not include any personal travel expenses such as lodging, most meals, local ground transportation, and air transportation from the U.S. to the mission sites, between mission sites, and return to the United States. Business visas may be required. Government fees and processing expenses to obtain such visas are also not included in the mission costs. However, the U.S. Department of Commerce will provide instructions to each participant on the procedures required to obtain necessary business visas.

SUPPLEMENTARY INFORMATION: Each applicant must submit a completed and signed mission application and supplemental application materials, including adequate information on the company's products or services primary market objectives, and goals for participation. If the U.S. Department of Commerce receives an incomplete application, the Department may reject the application, request additional information, or take the lack of information into account when evaluating the applications.

Companies must provide certification of products or services originating from the United States or if manufactured/produced outside of the United States, the product/service is marketed under the name of a U.S. firm and has U.S. content representing at least 51% of the value of the finished good or service. In the case of a trade association or trade organization, the applicant must certify that, for each company to be represented by the trade association or trade organization, the products and services the represented company seeks to export are either produced in the United States or, if not, marketed under the name of a U.S. firm and have at least 51% U.S. content.

Criteria for Application

The following criteria will be evaluated in selecting participants:

• Relevance of the company's (or in the case of a trade association/organization, represented companies') business to the mission goals;

• Company's (or in the case of a trade association/organization, represented companies') market potential for business in India; and

• Provision of adequate information on the company's products and/or services, and communication of the company's (or in the case of a trade association/organization, represented companies') primary objectives.

FOR FURTHER INFORMATION CONTACT:

Ms. Jessica Dulkadir, International Trade Specialist, Trade Missions, U.S. Department of Commerce, Washington, DC 20230, Tel: 202 482 2026, Fax: 202-482-9000, Jessica.Dulkadir@trade.gov.

Ms. Camille Richardson, Principal Commercial Officer, U.S. Commercial Service, Mumbai, Tel: +91 22 2672-4215, Camille.Richardson@trade.gov.

Frank Spector,
Trade Missions Program.

[FR Doc. 2015-19123 Filed 8-3-15; 8:45 am]

BILLING CODE 3510-DR-P